DEPARTMENT OF AGRICULTURE

Submission for OMB Review; Comment Request

November 21, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Animal Health Monitoring System; Layers 2013 Study.

OMB Control Number: 0579-NEW.

Summary of Collection: Collection and dissemination of animal health data and information is mandated by 7 U.S.C. 391, the Animal Industry Act of 1884, which established the precursor of the Animal and Plant Health Inspection Service (APHIS), Veterinary Services (VS), the Bureau of Animal Industry. Legal requirements for examining and reporting on animal disease control methods were further mandated by 7 U.S.C. § 8308 of the Animal Health Protection Act, “Detection, Control, and Eradication of Diseases and Pests,” May 13, 2002. The National Animal Health Monitoring System (NAHMS) will initiate the second national data collection of table egg layers through Layers 2013. A Samonella Enteritidis working group was formed to identify areas where APHIS: VS should have a role in the prevention and control of Samonella Enteritidis on table eggs farms. This working group identified a need to update the information from the NAHMS Layers '99 study as well as a need for a current estimate of the prevalence of Samonella Enteritidis on table egg farms.

Need and Use of the Information: APHIS will use the data collected from the Layers 2013 study to: (1) Establish national production measures for producer, veterinary, and industry reference; (2) provide estimates of both outcome (disease or other parameters) and exposure (risks and components) variables that can be used in analytic studies in the future by APHIS; (3) provide input into the design of surveillance systems for specific diseases; (4) provide parameters for animal disease spread models.

Without this type of national data U.S.' ability to detect trends in management, production, and health status that increases/decreases farm economy either directly or indirectly would be reduced or nonexistent.

Description of Respondents: Business or other for-profit.

Number of Respondents: 1,344.

Frequency of Responses: Reporting: Other: One time.

Total Burden Hours: 840.

Ruth Brown,
Departmental Information Collection Clearance Officer.

[FR Doc. 2012-28833 Filed 11-27-12; 8:45 am]

BILLING CODE 3410-34-P